DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 12, 2005.

Interested persons are invited to submit written comments regarding the subject matter of the investigations to the Director, Division of Trade Adjustment Assistance, at the address shown below, not later than May 12, 2005.

The petitions filed in this case are available for inspection at the Office of the Director, Division of Trade Adjustment Assistance, Employment and Training Administration, U.S. Department of Labor, Room C-5311, 200 Constitution Avenue, NW., Washington, DC 20210.

Signed at Washington, DC, this 20th day of April 2005.
Timothy Sullivan,
Director, Division of Trade Adjustment Assistance.

APPENDIX
[Petitions instituted between 03/14/2005 and 04/01/2005]
TA-W | Subject firm (petitioners) | Location | Date of institution | Date of petition
56,753 | Spartech Polycom (USWA) | Conneaut, OH | 03/14/2005 | 03/14/2005
56,754 | SelKirk, LLC (Comp) | Coleman, TX | 03/14/2005 | 03/10/2005
56,755 | Hitachi Global Storage Technologies, Inc | San Jose, CA | 03/14/2005 | 03/10/2005
56,756A | Ansonia Copper and Brass (State) | Waterbury, CT | 03/14/2005 | 03/11/2005
56,756 | Ansonia Copper and Brass (State) | Ansonia, CT | 03/14/2005 | 03/11/2005
56,757 | Celestica (Comp) | Raleigh, NC | 03/14/2005 | 03/04/2005
56,758 | Weyerhaeuser (Comp) | Sweet Home, OR | 03/16/2005 | 03/11/2005
56,759 | Felix Schoeller Technical Papers, Inc. (Comp) | Pulaski, NY | 03/16/2005 | 03/15/2005
56,760 | Tri-Cast, Inc. (State) | Spring Lake, MI | 03/16/2005 | 02/18/2005
56,761 | Westek Electronics, Inc. (Comp) | Santa Cruz, CA | 03/16/2005 | 03/15/2005
56,762 | Eldorado Cap Co., Inc. (UNITE) | Eldorado, IL | 03/16/2005 | 03/15/2005
56,763 | Quaker Fabric Corporation (State) | Fall River, MA | 03/16/2005 | 03/09/2005
56,764 | Whirley Industries (Wkrs) | Warren, PA | 03/16/2005 | 02/25/2005
56,765 | GKN Sinter Metals (UAW) | Gallipolis, OH | 03/16/2005 | 03/14/2005
56,766 | Challenger Contract Manufacturing (Comp) | Dandridge, TN | 03/16/2005 | 03/10/2005
56,767 | Celestica USA, Inc. (Comp) | Salem, NH | 03/16/2005 | 03/14/2005
56,768 | Magnivision (State) | Miramar, FL | 03/16/2005 | 03/15/2005
56,769 | Magnetic Specialty, Inc. (Comp) | Marietta, OH | 03/16/2005 | 03/08/2005
56,770 | Charleston Hosiery (Wkrs) | Fort Payne, AL | 03/16/2005 | 03/07/2005
56,771 | Kern Manufacturing (Wkrs) | Flora, IL | 03/16/2005 | 03/14/2005
56,772 | AT&T (NPW) | Schaumburg, IL | 03/16/2005 | 02/26/2005
56,773 | Ruskin (Wkrs) | Clayton, OH | 03/16/2005 | 02/28/2005
56,774 | Automatic Timing and Controls (Wkrs) | Lancaster, PA | 03/16/2005 | 03/07/2005
56,775 | D.R. Kenyon and Son, Inc. (Wkrs) | Bridgewater, NJ | 03/16/2005 | 02/28/2005
56,776 | Nokia (State) | Fort Worth, TX | 03/21/2005 | 03/18/2005
56,777A | Boston Scientific (Comp) | San Diego, CA | 03/21/2005 | 03/16/2005
56,777 | Boston Scientific (Comp) | Murrieta, CA | 03/21/2005 | 03/16/2005
56,778 | Eagle Picher (Comp) | Manchester, TN | 03/21/2005 | 03/16/2005
56,779 | Aon Corp. (Wkrs) | Glenview, IL | 03/21/2005 | 01/18/2005
56,780 | ETEC, an Applied Materials Company (Wkrs) | Hillsboro, OR | 03/22/2005 | 03/18/2005
56,781 | AT and T (CWA) | Mesa, AZ | 03/22/2005 | 02/25/2005
56,782 | F.C. Meyer Packaging (Wkrs) | Lawrence, MA | 03/22/2005 | 03/11/2005
56,783 | Compupunch (Comp) | Los Angeles, CA | 03/22/2005 | 03/10/2005
56,784 | Progressive Service Die Company (IAM) | New Kingstown, PA | 03/22/2005 | 03/16/2005
56,785 | Michigan Sugar Company (State) | Carrollton, MI | 03/22/2005 | 03/21/2005
56,786 | Hardwood Products, LLC (State) | Guilford, ME | 03/22/2005 | 03/17/2005
56,787 | Video Display Corp. (Wkrs) | White Mills, PA | 03/22/2005 | 03/14/2005
56,788 | Pentair Water, Pool and Spa (Comp) | S. El Monte, CA | 03/22/2005 | 03/21/2005
56,789 | Jersey Mold Inc. (Comp) | Millville, NJ | 03/22/2005 | 03/17/2005
56,790 | Electronic Measuring Devices, Inc. (State) | Budd Lake, NJ | 03/22/2005 | 03/21/2005
56,791 | Vercuity Solutions, Inc. (NPW) | Gainesville, GA | 03/22/2005 | 03/10/2005
56,792 | Day Zimmermann Security Services (NPW) | Pottstown, PA | 03/22/2005 | 03/11/2005
56,793 | Council Cup Ind. (Comp) | Wapwallopen, PA | 03/22/2005 | 03/14/2005
56,794 | Intersil Communications, Inc. (Wkrs) | Palm Bay, FL | 03/22/2005 | 03/07/2005
56,795 | Sanofi Aventis Pharmaceuticals (State) | Bridgewater, NJ | 03/22/2005 | 03/17/2005
56,796 | Tyco Electronics (Comp) | Sterling, IL | 03/22/2005 | 03/17/2005
56,797 | GE (Wkrs) | Fort Wayne, IN | 03/22/2005 | 03/16/2005
56,798 | Unicare (Wkrs) | Charlestown, MA | 03/22/2005 | 03/06/2005
56,799 | BASF Corporation (Comp) | Jamesburg, NJ | 03/22/2005 | 03/15/2005
56,800 | Alcoa, Inc. (Comp) | Badin, NC | 03/22/2005 | 03/15/2005
56,801 | ITT Industries (Comp) | Oscoda, MI | 03/23/2005 | 03/21/2005
56,802 | Molex, Inc. (Comp) | Gilford, NH | 03/23/2005 | 03/23/2005
56,803 | Silvered Electronic Mica Co., Inc. (Comp) | Willimantic, CT | 03/23/2005 | 03/09/2005
56,804 | T.S. Designs, Inc. (Comp) | Burlington, NC | 03/23/2005 | 03/07/2005
56,805 | Glen Raven Technical Fabrics (Comp) | Burnsville, NC | 03/23/2005 | 03/03/2005
56,806 | Carolina Glove (State) | N. Wilkesboro, NC | 03/23/2005 | 03/23/2005
56,807 | Lexington Home Brands (Comp) | Lexington, NC | 03/23/2005 | 03/04/2005
56,808 | Hydro Gate Acquisition, Inc. (Comp) | Commerce City, CO | 03/24/2005 | 03/09/2005
56,809 | Halex A Scott Fetzer Co. (Comp) | Hamilton, IN | 03/24/2005 | 03/16/2005
56,810 | Miracle Recreation Equipment Co. (Wkrs) | Advance, MO | 03/24/2005 | 03/21/2005
56,811 | Valdese Manufacturing Co. (State) | Valdese, NC | 03/24/2005 | 03/17/2005
56,812 | Vishay Transducers (State) | Covina, CA | 03/24/2005 | 03/22/2005
56,813A | Bernhardt Furniture Company (Comp) | Lenoir, NC | 03/24/2005 | 03/21/2005
56,813 | Bernhardt Furniture Company (Comp) | Lenoir, NC | 03/24/2005 | 03/21/2005
56,814 | Omnimount Systems (Comp) | Phoenix, AZ | 03/24/2005 | 03/22/2005
56,815 | Hewlett Packard Co. (Comp) | Aguadilla, PR | 03/24/2005 | 03/23/2005
56,816 | Hewlett Packard (Comp) | Boise, ID | 03/24/2005 | 03/22/2005
56,817 | Drive Plus, Inc. (Wkrs) | Lock Haven, PA | 03/24/2005 | 03/18/2005
56,818 | Hadco Corp. (Comp) | Phoenix, AZ | 03/24/2005 | 03/21/2005
56,819 | Hudson RCI (Comp) | Temecula, CA | 03/24/2005 | 03/15/2005
56,820 | Manpower Temporary (State) | Tempe, AZ | 03/24/2005 | 03/23/2005
56,821 | Dott Industries, Inc. (USWA) | Deckerville, MI | 03/24/2005 | 03/22/2005
56,822 | Seal Glove Manufacturing, Inc. (Comp) | Millersburg, PA | 03/24/2005 | 03/21/2005
56,823 | Computer Co-op, Inc. (The) (Comp) | S. Williamsport, P | 03/24/2005 | 03/23/2005
56,824 | James Morton, Inc. (Wkrs) | Batavia, NY | 03/24/2005 | 03/16/2005
56,825 | Burns Wood Products, Inc. (Comp) | Granite Falls, NC | 03/24/2005 | 03/23/2005
56,826 | North American Communications (Wkrs) | Duncansville, PA | 03/24/2005 | 03/16/2005
56,827 | Sara Lee Corp. (Comp) | Winston-Salem, NC | 03/24/2005 | 03/08/2005
56,828 | Tarkett (USWA) | Florence, AL | 03/24/2005 | 03/18/2005
56,829 | 3Com Corporation (Wkrs) | Marlborough, MA | 03/24/2005 | 03/15/2005
56,830 | Jarvis Caster (State) | Harrisburg, AR | 03/24/2005 | 03/22/2005
56,831 | Mueller Copper Tube Products (State) | Wynne, AR | 03/24/2005 | 03/22/2005
56,832 | SAS Ornamental, Inc. (Comp) | El Paso, TX | 03/25/2005 | 03/07/2005
56,833 | Thermotech Company (State) | Hopkins, MN | 03/25/2005 | 03/24/2005
56,834 | Thomasville Furniture Inc. (Comp) | Thomasville, NC | 03/25/2005 | 03/21/2005
56,835 | Therm-O-Disc, Inc. (Wrks) | Mansfield, OH | 03/25/2005 | 03/16/2005
56,836 | Leggett and Platt (State) | York, PA | 03/25/2005 | 03/15/2005
56,837 | Calley and Currier Co. (Stte) | Patten, ME | 03/25/2005 | 03/21/2005
56,838 | Alden Manufacturing Co. (Comp) | Chicago, IL | 03/25/2005 | 03/17/2005
56,839 | Exide Technologies (UAW) | Shreveport, LA | 03/25/2005 | 03/23/2005
56,840 | PAM Trading Corporation (Comp) | Greensboro, NC | 03/25/2005 | 03/18/2005
56,841 | Robin-Lynn Mills (AL) | Fort Payne, AL | 03/25/2005 | 03/23/2005
56,842 | KUS, Inc. (UAW) | Fort Wayne, IN | 03/29/2005 | 03/28/2005
56,843 | Ozburn-Hessey Logistics (Wkrs) | Lawrenceburg, TN | 03/29/2005 | 03/15/2005
56,844 | Design Institute America, Inc. (Comp) | Jasper, IN | 03/29/2005 | 03/21/2005
56,845 | Elringklinger Sealing Systems (USA), Inc. | Livonia, MI | 03/29/2005 | 03/18/2005
56,846 | Ametek National Controls Corp. (Comp) | West Chicago, IL | 03/30/2005 | 03/25/2005
56,847 | Nexan's Magnet Wire (Wkrs) | LaGrange, KY | 03/30/2005 | 03/14/2005
56,848 | Emmi, Inc. (State) | Los Angeles, CA | 03/30/2005 | 03/21/2005
56,849 | Acco Chain (USWA) | York, PA | 03/30/2005 | 03/21/2005
56,850 | Hydro-Logic (Wkrs) | Warren, MI | 03/30/2005 | 03/05/2005
56,851 | Xerox Corporation (Wkrs) | Webster, NY | 03/30/2005 | 03/18/2005
56,852 | Akzo Nobel/Akros (Wkrs) | New Brunswick, NJ | 03/30/2005 | 03/11/2005
56,853 | ITEMA America, Inc. (frmly Sultex USA) (Wkrs) | Spartanburg, SC | 03/30/2005 | 03/23/2005
56,854 | Mettler-Toledo, Inc. (NPC) | Inman, SC | 03/30/2005 | 03/02/2005
56,855 | General Cable (IBEW) | Bonham, TX | 03/30/2005 | 03/15/2005
56,856 | Thomas and Betts (Wkrs) | Mercer, PA | 03/30/2005 | 03/22/2005
56,857 | L.A. T Sportswear, LLC (Comp) | Roberta, GA | 03/30/2005 | 03/29/2005
56,858 | Snap-on Tools, Inc. (Wkrs) | Mt. Carmel, IL | 03/30/2005 | 03/28/2005
56,859 | Ametek, Inc. (Comp) | Grand Junction, CO | 03/30/2005 | 03/24/2005
56,860 | 4A Enterprises (State) | Williamsville, MO | 03/30/2005 | 03/24/2005
56,861 | Federal-Mogul, Power Train Div. Bearings (Wkrs) | Blacksburg, VA | 03/30/2005 | 03/23/2005
56,862 | Topcon Medical Systems, Inc. (Comp) | Norristown, PA | 03/31/2005 | 03/29/2005
56,863 | Valspar (Comp) | High Point, NC | 03/31/2005 | 03/14/2005
56,864 | Chamberlain Group, Inc. (Comp) | Ronkonkoma, NY | 03/31/2005 | 03/29/2005
56,865 | Meyers Industries (Wkrs) | Hickory, NC | 04/01/2005 | 03/15/2005
56,866 | Sun Microsystems (Wkrs) | Nashua, NH | 04/01/2005 | 04/01/2005
56,867 | Manual Transmission (Wkrs) | Muncie, IN | 04/01/2005 | 04/01/2005
56,868 | River Valley Contract Manufacturing, Inc | Menifee, AR | 04/01/2005 | 03/03/2005
56,869 | National Textiles, LLC (Comp) | Hodges, SC | 04/01/2005 | 03/21/2005
56,870 | Locklear Manufacturing, Inc. (Comp) | Fort Payne, AL | 04/01/2005 | 03/31/2005

[FR Doc. E5-2092 Filed 4-29-05; 8:45 am]

BILLING CODE 4510-30-P